DEPARTMENT OF DEFENSE

Department of the Army

Draft Environmental Impact Statement (DEIS) for Resumption of Year-Round Firing Opportunities at Fort Richardson, AK

AGENCY: Department of the Army, DoD.

ACTION: Notice of Availability.

SUMMARY: The Department of the Army announces the availability of a DEIS that describes and analyzes the potential environmental effects associated with the U.S. Army Alaska (USARAK) proposal to strengthen unit preparedness and improve Soldier and Family quality of life by maximizing live-fire training capacity at Fort Richardson. Current restrictions cause a shortage of live-fire training opportunities at Fort Richardson, resulting in the need for units to travel to other installations for required training. The Proposed Action is to restore year-round live-fire training capabilities at Fort Richardson in order to allow active duty units to achieve and maintain combat readiness, reduce deployment hardships on Soldiers and their Families, and to reduce annual expenditures associated with travel to distant facilities to conduct training.

DATES: The public comment period ends 60 days following publication of a Notice of Availability in the Federal Register by the U.S. Environmental Protection Agency.

ADDRESSES: Written comments should be forwarded to Ms. Carrie McEnteer, Directorate of Public Works, Attention: IMPC-FWA-PWE (C. McEnteer), 1060 Gaffney Road #4500, Fort Wainwright, AK 99703-4500; fax: (907) 361-9867; e-mail: carrie.mcenteer@us.army.mil.

FOR FURTHER INFORMATION CONTACT: Mr. Robert Hall, Public Affairs Office, 724 Postal Service Loop Road #6000, Building 600, Room B349, Fort Richardson, AK 99505-6000; telephone: (907) 384-2546, e-mail: robert.hall33@us.army.mil.

SUPPLEMENTARY INFORMATION: The Proposed Action analyzed in this DEIS is to restore year-round live-firing capabilities at Fort Richardson. Army units must be certified with a variety of weapons systems before they can be safely and effectively deployed. Army policy stipulates how much units are to fire each type of weapon to achieve certification. Fort Richardson currently serves as home station to the 4th Brigade Combat Team (Airborne), 25th Infantry Division (4/25 ABCT) and must, therefore, provide the training opportunities necessary for this Brigade to attain and sustain certification.

Since the 1940s, units stationed at Fort Richardson have conducted their live-fire munitions training at the Eagle River Flats Impact Area, the only permanent impact area on post. Training with a variety of high-explosive weapons continued at this location until the discovery in 1990 that white phosphorus (a substance contained in certain Army munitions) deposited into Eagle River Flats was causing large-scale mortality of dabbling waterfowl (e.g., ducks and swans). USARAK took several actions to address this situation. First, all firing at the Eagle River Flats Impact Area was suspended. Second, an Environmental Assessment to examine alternatives for resumption of firing was prepared—an analysis that led to the current “winter only” firing regimen. These restrictions are still in effect today and permit indirect live-fire at the Eagle River Flats Impact Area only when the ice is sufficiently thick to eliminate the risk of disturbing any underlying white phosphorus particles. Because of these restrictions, Fort Richardson units travel great distances to train elsewhere, resulting in deployment hardships on Soldiers and their Families, and additional annual expenditures associated with travel to distant facilities to conduct training. Third, USARAK supported a major Comprehensive Environmental Response, Compensation, and Liability Act (CERCLA) remediation effort to eliminate white phosphorus from the local ecosystem. Active CERCLA cleanup at Eagle River Flats is scheduled for completion early in 2010.

In addition to consideration of a No Action Alternative (continued use of the Eagle River Flats Impact Area under a “winter only” firing regimen), the DEIS analyzed two alternatives as possible scenarios for the resumption of a year round live-fire training opportunity at Fort Richardson: (1) Year-round use of the Eagle River Flats Impact Area and (2) the development of a new explosive munitions impact area on Fort Richardson. USARAK has identified resumption of year-round live-fire training at the Eagle River Flats Impact Area as its preferred alternative.

The DEIS is available for public review at local libraries and at http://www.usarak.army.mil/conservation/NEPA_home.htm. Comments from the public will be considered before any final decision is made. The Army plans to hold public meetings in Anchorage and Eagle River to provide information on the DEIS and to provide opportunities for public comment. In addition, the Army will meet with local, state, and federal agencies, as well as several Alaska Native tribes.

Dated: March 4, 2010.
Addison D. Davis, IV,
Deputy Assistant Secretary of the Army (Environment, Safety, and Occupational Health).

[FR Doc. 2010-5376 Filed 3-16-10; 8:45 am]

BILLING CODE 3710-08-M